DEPARTMENT OF TRANSPORTATION

Federal Aviation Administration

14 CFR Part 39

[Docket No. FAA-2018-1010; Product Identifier 2018-NM-148-AD]

RIN 2120-AA64

Airworthiness Directives; Dassault Aviation Airplanes

AGENCY: Federal Aviation Administration (FAA), DOT.

ACTION: Notice of proposed rulemaking (NPRM).

SUMMARY: We propose to remove Airworthiness Directive (AD) 2012-02-18, which applies to all Dassault Aviation Model MYSTERE-FALCON 50 airplanes. AD 2012-02-18 requires revising the maintenance program to include revised airworthiness limitations. AD 2012-02-18 is no longer necessary because we have since issued AD 2017-09-03 to address the unsafe condition. Accordingly, we propose to remove AD 2012-02-18.

DATES: We must receive comments on this proposed AD by February 11, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

Examining the AD Docket

You may examine the AD docket on the internet at http://www.regulations.gov by searching for and locating Docket No. FAA-2018-1010; or in person at Docket Operations between 9 a.m. and 5 p.m., Monday through Friday, except Federal holidays. The AD docket contains this proposed AD, the regulatory evaluation, any comments received, and other information. The street address for Docket Operations (phone: 800-647-5527) is in the ADDRESSES section. Comments will be available in the AD docket shortly after receipt.

FOR FURTHER INFORMATION CONTACT: Tom Rodriguez, Aerospace Engineer, International Section, Transport Standards Branch, FAA, 2200 South 216th St., Des Moines, WA 98198; telephone and fax 206-231-3226.

SUPPLEMENTARY INFORMATION:

Comments Invited

We invite you to send any written relevant data, views, or arguments about this proposal. Send your comments to an address listed under the ADDRESSES section. Include “Docket No. FAA-2018-1010; Product Identifier 2018-NM-148-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued AD 2012-02-18, Amendment 39-16941 (77 FR 12175, February 29, 2012) (“AD 2012-02-18”), for all Dassault Aviation Model MYSTERE-FALCON 50 airplanes. AD 2012-02-18 requires revising the maintenance program to include revised airworthiness limitations. AD 2012-02-18 was prompted by reports of cracking of the flap tracks. We issued AD 2012-02-18 to address cracking of the flap tracks, which could lead to flap asymmetry and loss of control of the airplane.

Actions Since AD 2012-02-18 Was Issued

Since we issued AD 2012-02-18, we have issued AD 2017-09-03, Amendment 39-18865 (82 FR 21467, May 9, 2017) (“AD 2017-09-03”), which addresses the unsafe condition. AD 2017-09-03 requires revising the maintenance or inspection program, as applicable, to incorporate new and more restrictive maintenance requirements and airworthiness limitations, which include an eddy current inspection of flap tracks 2 and 5 to address cracking.

FAA's Conclusions

Upon further consideration, we have determined that AD 2012-02-18 is no longer necessary. Accordingly, this proposed AD would remove AD 2012-02-18. Removal of AD 2012-02-18 would not preclude the FAA from issuing another related action or commit the FAA to any course of action in the future.

Costs of Compliance

This proposed AD would add no cost. This proposed AD would remove AD 2012-02-18 from 14 CFR part 39; therefore, operators would no longer be required to show compliance with that AD.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-02-18, Amendment 39-16941 (77 FR 12175, February 29, 2012), and adding the following new AD:

Dassault Aviation: Docket No. FAA-2018-1010; Product Identifier 2018-NM-148-AD.

(a) Comments Due Date

The FAA must receive comments on this AD action by February 11, 2019.

(b) Affected ADs

This AD removes AD 2012-02-18, Amendment 39-16941 (77 FR 12175, February 29, 2012).

(c) Applicability

This AD applies to Dassault Aviation Model MYSTERE-FALCON 50 airplanes, all serial numbers, certificated in any category.

(d) Related Information

For more information about this AD, contact Tom Rodriguez, Aerospace Engineer, International Section, Transport Standards Branch, FAA, 2200 South 216th St., Des Moines, WA 98198; telephone and fax 206-231-3226.

Issued in Des Moines, Washington, on December 7, 2018.
Michael Kaszycki,
Acting Director, System Oversight Division, Aircraft Certification Service.

[FR Doc. 2018-27430 Filed 12-27-18; 8:45 am]

BILLING CODE 4910-13-P